ENVIRONMENTAL PROTECTION AGENCY

[EPA-HQ-OPP-2018-0014; FRL-9987-92]

Product Cancellation Order for Certain Pesticide Registrations and Amendments To Terminate Uses

AGENCY: Environmental Protection Agency (EPA).

ACTION: Notice.

SUMMARY: This notice announces EPA's order for the cancellations and amendments to terminate uses, voluntarily requested by the registrants and accepted by the Agency, of the products listed in Table 1 and Table 2 of Unit II, pursuant to the Federal Insecticide, Fungicide, and Rodenticide Act (FIFRA). This cancellation order follows an October 17, 2018 Federal Register Notice of Receipt of Requests from the registrants listed in Table 3 of Unit II to voluntarily cancel and amend to terminate uses of these product registrations. In the October 17, 2018 notice, EPA indicated that it would issue an order implementing the cancellations and amendments to terminate uses, unless the Agency received substantive comments within the 30-day comment period that would merit its further review of these requests, or unless the registrants withdrew their requests. The Agency did not receive any comments on the notice. Further, the registrants did not withdraw their requests. Accordingly, EPA hereby issues in this notice a cancellation order granting the requested cancellations and amendments to terminate uses. Any distribution, sale, or use of the products subject to this cancellation order is permitted only in accordance with the terms of this order, including any existing stocks provisions.

DATES: The cancellations and amendments are effective February 14, 2019.

FOR FURTHER INFORMATION CONTACT: Christopher Green, Information Technology and Resources Management Division (7502P), Office of Pesticide Programs, Environmental Protection Agency, 1200 Pennsylvania Ave. NW, Washington, DC 20460-0001; telephone number: (703) 347-0367; email address: green.christopher@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2018-0014, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the cancellations and amendments to terminate uses, as requested by registrants, of products registered under FIFRA section 3 (7 U.S.C. 136a). These registrations are listed in sequence by registration number in Tables 1 and 2 of this unit.

Table 1—Product Cancellations
Registration No. | Company No. | Product name | Active ingredients
100-974 | 100 | Platinum Ridomil Gold | Thiamethoxam & Metalaxyl-M.
100-1149 | 100 | CGA-329351 138 ES | Metalaxyl-M.
100-1184 | 100 | Cruiser XL Insecticide and Fungicide Prepack | Metalaxyl-M; Fludioxonil & Thiamethoxam.
100-1208 | 100 | Cruiser Extreme | Azoxystrobin; Metalaxyl-M; Fludioxonil & Thiamethoxam.
100-1284 | 100 | Dynasty Extreme | Myclobutanil; Metalaxyl-M; Fludioxonil & Azoxystrobin.
100-1335 | 100 | Difenoconazole/Mefenoxam FS | Difenoconazole & Metalaxyl-M.
100-1413 | 100 | Ariel | Metalaxyl-M.
352-754 | 352 | Dupont Imazapyr 75XP Herbicide | Imazapyr.
432-1578 | 432 | Lineage Clearstand | Metsulfuron & Imazapyr.
499-373 | 499 | Whitmire PT 289 Orthense | Acephate.
1381-226 | 1381 | Imidacloprid 60% WSP ORN Insecticide | Imidacloprid.
2217-759 | 2217 | Embark 2-S Plant Growth Regulator | Mefluidide, diethanolamine salt.
2217-766 | 2217 | Embark 2-L Plant Growth Regulator | N-(2,4-Dimethyl-5-(((trifluoromethyl)sulfonyl)amino)phenyl) acetamide, potassium salt.
2217-767 | 2217 | Mefluidide 2-S Concentrate | Mefluidide, diethanolamine salt.
2217-768 | 2217 | Embark E-Z-TU-USE Plant Grown Regulator | Mefluidide, diethanolamine salt.
2217-802 | 2217 | EH 1135 PGR | Imazethapyr, ammonium salt; Imazapyr & Mefluidide, diethanolamine salt.
55146-81 | 55146 | Flouronil Fungicide | Chlorothalonil & Metalaxyl-M.
65331-6 | 65331 | Amitraz Technical | Amitraz.
66222-135 | 66222 | Thidiazuron 50 WSB | Thidiazuron.
66330-24 | 66330 | Captan 4 Flowable | Captan.
66330-26 | 66330 | Captan 50 WP | Captan.
66330-27 | 66330 | Captan Garden Spray | Captan.
66330-209 | 66330 | Captan 80W | Captan.
66330-235 | 66330 | Captan 4 Flowable | Captan.
66330-238 | 66330 | Captan 4 Flowable Seed Protectant | Captan.
66330-239 | 66330 | Captec 4L Captan Flowable Fungicide | Captan.
66330-242 | 66330 | Mepiquat Chloride Liquid Concentrate | Mepiquat chloride.
66330-243 | 66330 | Mepichlor Pill | Mepiquat chloride.
66330-280 | 66330 | Mepplus Concentrate | Mepiquat chloride & Bacillus cereus strain BP01.
66330-285 | 66330 | Mepplus Pill | Mepiquat chloride & Bacillus cereus strain BP01.
66330-346 | 66330 | Pix Concentrate Plant Regulator | Mepiquat chloride.
66330-348 | 66330 | MC-6 | Mepiquat chloride.
66330-393 | 66330 | ARY 0494-006 | Bacillus cereus strain BP01 & Mepiquat chloride.
CO-080004 | 400 | Enhance | Captan & Carboxin.
CO-090006 | 5481 | Orthene Turf, Tree & Ornamental WSP | Acephate.
FL-050004 | 70506 | Surflan as Specialty Herbicide | Oryzalin.
ME-160002 | 71512 | Omega 500F | Fluazinam.
OR-040033 | 10163 | Onager 1E | Hexythiazox.
OR-120018 | 59639 | Valor Herbicide | Flumioxazin.
WA-040021 | 228 | Riverdale Aquaneat Aquatic Herbicide | Glyphosate-isopropylammonium.
WI-130001 | 100 | Dual Magnum Herbicide | S-Metolachlor.
WY-070002 | 56228 | DRC-1339 Concentrate Staging Label | Starlicide.

Table 2—Product Registration Amendments To Terminate Uses
Registration No. | Company No. | Product name | Active ingredients | Uses to be terminated
11678-55 | 11678 | Magnate Technical | Imazalil | Seed treatment uses.
43813-4 | 43813 | Fungaflor 75 SP | Imazalil sulphate | Seed treatment uses.
66222-1 | 66222 | Captan 50-WP | Captan | Turf.
66330-209 | 66330 | Captan 80W | Captan | Turf.
66330-234 | 66330 | Captan 50 Wettable Powder | Captan | Turf.
66330-239 | 66330 | Captec 4L Captan Flowable Fungicide | Captan | Turf.

Table 3 of this unit includes the names and addresses of record for all registrants of the products in Tables 1 and 2 of this unit, in sequence by EPA company number. This number corresponds to the first part of the EPA registration numbers of the products listed above.

Table 3—Registrants of Cancelled and Amended Products
EPA company No. | Company name and address
100 | Syngenta Crop Protection, LLC, 410 Swing Road, P.O. Box 18300, Greensboro, NC 27419-8300.
228 | Nufarm Americas, Inc., 4020 Aerial Center Pkwy., Ste. 101, Morrisville, NC 27560.
352 | E. I. Du Pont De Nemours and Company, Attn: Manager, US Registration, DuPont Crop Protection, Chestnut Run Plaza (CRP 720/2E5), 974 Centre Rd., Wilmington, DE 19805.
400 | MacDermid Agricultural Solutions, Inc. C/O Arysta LifeScience North America, LLC, 15401 Weston Parkway, Suite 150, Cary, NC 27513.
432 | Bayer Environmental Science, A Division of Bayer CropScience, LP 2 T. W. Alexander Drive, Research Triangle Park, NC 27709.
499 | BASF Corporation, 26 Davis Drive, P.O. Box 13528, Research Triangle Park, NC 27709-3528.
1381 | Winfield Solutions, LLC, P.O. Box 64589, St. Paul, MN 55164-0589.
2217 | PBI/Gordon Corp., 1217 West 12th Street, P.O. Box 014090, Kansas City, MO 64101-0090.
5481 | AMVAC Chemical Corporation, 4695 MacArthur Court, Suite 1200, Newport Beach, CA 92660-1706.
10163 | Gowan Company, P.O. Box 5569, Yuma, AZ 85366.
11678 | ADAMA Makhteshim LTD., Agent Name: Makhteshim-Agan of North America, Inc., D/B/A ADAMA 3120 Highwoods Blvd., Suite 100, Raleigh, NC 27604.
43813 | Janssen PMP, A Division of Janssen Pharmaceutica NV 1125 Trenton-Harbourton Rd., Titusville, NJ 08560-0200.
55146 | Nufarm Americas, Inc., AGT Division, 4020 Aerial Center Pkwy., Suite 101, Morrisville, NC 27560.
56228 | U.S. Department of Agriculture, Animal and Plant Health Inspection Service, 4700 River Road, Unit 149, Riverdale, MD 20737.
59639 | Valent U.S.A. LLC, 1600 Riviera Avenue, Suite 200, Walnut Creek, CA 94596-8025.
65331 | Merial, Inc., 3239 Satellite Blvd., Duluth, GA 30096.
66222 | Makhteshim Agan of North America, Inc., D/B/A Adama, 3120 Highwoods Blvd., Suite 100, Raleigh, NC 27604.
66330 | Arysta LifeScience North America, LLC, 15401 Weston Parkway, Suite 150, Cary, NC 27513.
70506 | United Phosphorus, Inc. 630 Freedom Business Center, Suite 402, King of Prussia, PA 19406.
71512 | ISK Biosciences Corporation, 7470 Auburn Road, Suite A, Concord, OH 44077.

III. Summary of Public Comments Received and Agency Response to Comments

During the public comment period provided, EPA received no comments in response to the October 17, 2018 Federal Register notice announcing the Agency's receipt of the requests for voluntary cancellations and amendments to terminate uses of products listed in Tables 1 and 2 of Unit II.

IV. Cancellation Order

Pursuant to FIFRA section 6(f) (7 U.S.C. 136d(f)(1)), EPA hereby approves the requested cancellations and amendments to terminate uses of the registrations identified in Tables 1 and 2 of Unit II. Accordingly, the Agency hereby orders that the product registrations identified in Tables 1 and 2 of Unit II are canceled and amended to terminate the affected uses. The effective date of the cancellations that are subject of this notice is February 14, 2019. Any distribution, sale, or use of existing stocks of the products identified in Tables 1 and 2 of Unit II in a manner inconsistent with any of the provisions for disposition of existing stocks set forth in Unit VI will be a violation of FIFRA.

V. What is the agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of October 17, 2018 (83 FR 52444) (FRL-9983-91). The comment period closed on November 16, 2018.

VI. Provisions for Disposition of Existing Stocks

Existing stocks are those stocks of registered pesticide products which are currently in the United States and which were packaged, labeled, and released for shipment prior to the effective date of the action. The existing stocks provision for the products subject to this order is as follows.

For voluntary cancellations, the registrants may continue to sell and distribute existing stocks of products listed in Table 1 until February 14, 2020, which is 1 year after publication of this cancellation order in the Federal Register. Thereafter, the registrants are prohibited from selling or distributing products listed in Table 1 of Unit II, except for export in accordance with FIFRA section 17 (7 U.S.C. 136o) or for proper disposal.

Now that EPA has approved product labels reflecting the requested amendments to terminate uses, registrants are permitted to sell or distribute products listed in Table 2 of Unit II under the previously approved labeling until August 14, 2020, a period of 18 months after publication of the cancellation order in this Federal Register, unless other restrictions have been imposed. Thereafter, registrants will be prohibited from selling or distributing the products whose labels include the terminated uses identified in Table 2 of Unit II, except for export consistent with FIFRA section 17 or for proper disposal.

Persons other than the registrant may sell, distribute, or use existing stocks of canceled products and products whose labels include the terminated uses until supplies are exhausted, provided that such sale, distribution, or use is consistent with the terms of the previously approved labeling on, or that accompanied, the canceled products and terminated uses.

Authority: 7 U.S.C. 136 et seq.

Dated: December 18, 2018.
Delores Barber,
Director, Information Technology and Resources Management Division, Office of Pesticide Programs.

[FR Doc. 2019-02385 Filed 2-13-19; 8:45 am]

BILLING CODE 6560-50-P